DEPARTMENT OF COMMERCE

International Trade Administration

[A-428-801]

Antifriction Bearings (Other Than Tapered Roller Bearings) and Parts Thereof From Germany; Amended Results of Antidumping Duty Administrative Reviews

AGENCY: Import Administration, International Trade Administration, Department of Commerce.

ACTION: Notice of amended final results of antidumping duty administrative reviews.

SUMMARY: On December 19, 2000, the Department of Commerce published a retraction of the amended final results of reviews for the respondent-company FAG Kugelfischer Georg Schaefer AG with respect to the antidumping duty orders on antifriction bearings (other than tapered roller bearings) and parts thereof from Germany. The classes or kinds of merchandise covered by these reviews are ball bearings and parts thereof, cylindrical roller bearings and parts thereof, and spherical plain bearings and parts thereof. The period of review is May 1, 1993, through April 30, 1994. At the time of our December 19th notice, one matter, relating to the above firm and the reviews of the orders on antifriction bearings and parts thereof from Germany, was pending before the United States Court of Appeals for the Federal Circuit. As there is now a final and conclusive court decision in this action, we are amending our final results of the reviews and we will subsequently instruct the Customs Service to liquidate entries subject to these reviews.

EFFECTIVE DATE: February 25, 2002.

FOR FURTHER INFORMATION CONTACT: Jennifer Moats or Richard Rimlinger, Import Administration, International Trade Administration, U.S. Department of Commerce, 14th Street and Constitution Avenue, NW, Washington, DC 20230; telephone (202) 482-4733.

Applicable Statute

Unless otherwise indicated, all citations to the Tariff Act of 1930, as amended (the Tariff Act), are references to the provisions in effect as of December 31, 1994. In addition, unless otherwise indicated, all citations to the Department of Commerce's (the Department's) regulations are to the regulations as codified at 19 CFR part 353 (1995).

SUPPLEMENTARY INFORMATION:

Background

On December 19, 2000, the Department of Commerce published a retraction of the amended final results of reviews for the respondent-company FAG Kugelfischer Georg Schaefer AG (FAG) with respect to the antidumping duty orders on antifriction bearings (other than tapered roller bearings) and parts thereof from Germany (see 65 FR 79341). The classes or kinds of merchandise covered by these reviews are ball bearings and parts thereof, cylindrical roller bearings and parts thereof, and spherical plain bearings and parts thereof. The period of review is May 1, 1993, through April 30, 1994. At the time of our December 19th notice, one matter, relating to the reviews of the orders on antifriction bearings and parts thereof from Germany, was pending before the United States Court of Appeals for the Federal Circuit.

Pursuant to the remand order from the U.S. Court of International Trade (CIT) in SKF USA Inc. v. United States, Consol. Court No. 97-01-00054-S, Slip Op. 01-86 (CIT July 16, 2001), the Department of Commerce prepared the final results of redetermination. In accordance with the CIT's instructions, we reconsidered our calculation of FAG's general and administrative expenses, and we recalculated FAG's margins accordingly. As there is now a final and conclusive court decision in this action, we are amending our final results of reviews in this matter, and we will subsequently instruct the Customs Service to liquidate entries subject to these reviews.

Amendment to Final Results

Pursuant to section 516A(e) of the Tariff Act, we are now amending the final results of administrative reviews of the antidumping duty orders on antifriction bearings (other than tapered roller bearings) and parts thereof from Germany, for the period May 1, 1993, through April 30, 1994. The revised weighted-average margins are as follows:

Company | BBs | CRBs | SPBs
Germany: FAG Kugelfischer Georg Schafer AG | 12.33 | 12.50 | 2.10

Accordingly, the Department will determine and the Customs Service will assess appropriate antidumping duties on entries of the subject merchandise made by the firm covered by these reviews. Individual differences between United States price and foreign market value may vary from the percentages listed above. For the company covered by these amended results, the Department will issue appraisement instructions to the Customs Service after publication of these amended final results of reviews.

This notice is published pursuant to section 751(a) of the Tariff Act.

Dated: February 19, 2002.
Faryar Shirzad,
Assistant Secretary for Import Administration.

[FR Doc. 02-4425 Filed 2-22-02; 8:45 am]

BILLING CODE 3510-DS-P